DEPARTMENT OF ENERGY

Chicago Operations Office, Office of Industrial Technologies;Notice of Solicitation for Financial Assistance Applcations for Cooperative Research and Development for Advanced Microturbine Systems

AGENCY: Chicago Operations Office, DOE.

ACTION: Notice of solicitation availability.

SUMMARY: The Department of Energy (DOE) announces its interest in receiving applications for federal assistance. The purpose of this research is to advance the state of development of one or more cost-effective technologies for integration into Advanced Microturbine Systems that will be commercialized and used in power and/or combined heat and power generation. In order to reach this goal, component and subsystem development, testing integration and demonstration of optimized and fully integrated microturbine systems will be performed.

DATES: The solicitation document will be available on or about February 25, 2000. Applications are due on or about April 12, 2000. Awards are anticipated by August 15, 2000.

ADDRESSES: The solicitation will be available on the internet by accessing the DOE Chicago Operations Office, Acquisition and Assistance Group home page at http://www.ch.doe.gov/business/acq.htm under the heading “Current Solicitations”, Solicitation No. DE-SC02-00CH11016. Completed applications referencing Solicitation No. DE-SC02-00CH11016 must be submitted to the U.S. Department of Energy, Chicago Operations Office, Communications Center, Building 201, Room 168, 9800 South Cass Avenue, Argonne, IL 60439-4899, ATTN: Tonja L. Stokes, Acquisition and Assistance Group.

FOR FURTHER INFORMATION CONTACT: Tonja L. Stokes at 630/252-2136, U.S. Department of Energy, 9800 South Cass Avenue, Argonne, IL 60439-4899, by facsimile at 630/252-5045, or by electronic mail at tonja.stokes@ch.doe.gov.

SUPPLEMENTARY INFORMATION: The Scope of Work covers applied research in five work areas as described below as Tasks 1, 2, 3, 4 and 5. In addition to these tasks, the Scope of Work includes Subtasks A and B. Subtask A will require the participant to provide a report that will identify and quantify the potential technical market for microturbine systems. Subtask B will require the participant to provide a commercialization plan which supports the proposed technological development.

The Tasks represent an increasing progression of maturation stages for technology development. Task 1 involves concept research and development; Task 2 involves subsystem component design and development; Task 3 involves microturbine modifications for integration of advanced technologies; Task 4 involves microturbine system assembly and testing, and Task 5 involves pre-commercial demonstration. Depending on the current maturation of proposed technologies, the work may start at any task if prior work has been performed that would satisfy completion or sufficient progress of the previous task(s). For example, an applicant with an innovative concept but limited development experience for that concept may decide to apply only under Task 1. Whereas, applicants with more developed concepts may elect to bypass the initial tasks. Applications may address any combination or portions of the tasks. While it is not mandatory for applications to address only sequentially numbered tasks (e.g., applying under Tasks 1, 3 and 4 is allowable), there must be a logical sequence of the tasks to be performed based on the nature of the work to be performed.

The ultimate maturation of technologies will be reached upon the attainment of the solicitation objectives in a pre-commercial demonstration of 8000 hours (Task 5). Although it is the intention of this solicitation to support development of microturbine systems that will so culminate, there also is relevancy in gaining a better understanding of advanced technologies and their impact on microturbines. In such a case, development of a completed commercial system may not be feasible. For example, development may end prior to the maturation state of Task 5, or Task 5 may be scheduled to complete less than the 8000 hours (but more than 4000 hours as discussed below) identified in the solicitation as a goal for commercialization. Regardless of the tasks proposed, applications will raise the maturation level of the concept relative to the solicitation objectives.

Insofar as Subtask A and B are concerned, all participants will complete the program and planning report required by Subtask A, which will become part of the lowest numbered Task proposed. Additionally, participants performing work under Tasks 3, 4 and/or 5 will complete the commercialization plan required by Subtask B as a part of the lowest numbered Task proposed that is equal to or greater than 3.

All work proposed to be performed under an application must be scheduled for completion within the five year life expectancy of this program.

Under Tasks 1 and 2 that follow, the work may be performed with respect to any test device or turbines that could serve as a logical and cost effective intermediate basis for developing a technology for microturbines. However, any such technology developed under Tasks 1 and 2 must have applicability to microturbines.

Under Tasks 3, 4 and 5 that follow, all work must be performed with respect to microturbines and the demonstration required under Task 5 must be performed on a microturbine. In performing this work, one or more such turbines may be used.

Work under all tasks will be enhanced by the participation of an end user. For these tasks, this solicitation encourages the coordination of technical and administrative activities with an end user. Long-term demonstration under Task 5 should be conducted at an end user that is committed by the applicant. We encourage the demonstration to be conducted at an Industry of the Future Company.

Task 1—The starting point of this task shall be, as a minimum, a technological concept(s) with prior experimental evidence of its potential for meeting the solicitation objectives. The participant will identify the form, function, and fit of all components necessary to execute the proposed technology. The participant will also develop preliminary designs compatible with the properties of the advanced material system(s). The participant will also develop preliminary designs for the components. Testing on preliminary articles may be done at a scale suitable to confirm the design parameters that were used and to give qualitative and quantitative indications that the components will perform as planned.

Task 2—The participant will complete detailed designs of the selected subsystem components. The design process will include the investigations of all process and economic parameters for integrating the selected components into a viable microturbine system. The components will be manufactured and the sub-system will be assembled. Development and testing will be done to verify and optimize the overall approach, to provide operating and control parameters, and to establish allowable microturbine operating ranges, energy efficiency, sensitivity to fuel variability, and other factors affecting the performance and competitiveness of the microturbine system.

Task 3—The design of a microturbine will be adapted in parallel to component development to assure compatibility, optimum fit, and functionality. The work under this task will integrate hardware, controls, and operating procedures for startup, steady operation over the usual power range (for example 50% to 100% of rated output), planned changes (such as anticipated shutdown or transitions of operating load), and unexpected changes in power output (such as lost load) and determining such parameters as energy efficiency and emissions.

Task 4—The applicant shall design and fabricate a complete microturbine system that utilizes the subsystems components developed under Task 2 or elsewhere. The subsystem components shall exhibit the form, function, and fit compatible with the modified microturbine developed either under Task 3 or elsewhere. The applicant shall prove, either by subsystem rig testing or by demonstrating on a microturbine, the ability of the subsystem components to perform as planned. Such testing shall include those sensors and controllers needed to maintain testing over the design operating range of the turbine. Test results shall include relationships among performance, efficiency, emissions, temperatures, and all other relevant parameters that quantify and qualify the system for commercial delivery.

The completion of Task 4 would result in the assembly of an advanced industrial gas turbine that incorporates components completed under this task or elsewhere. The advanced industrial gas turbine shall be ready for insertion into a commercial package that is suitable for shipment, installation, and demonstration in the field under Task 5.

Task 5—A host site(s) will be selected for demonstration of the microturbine system developed by the completion of Task 4 or elsewhere. The participant will integrate the turbine with the balance of plant equipment that makes the microturbine system compatible with the needs of a specific host site(s). The completion of Task 5 would result in an 8000-hour demonstration of an advanced microturbine that can be reasonably expected to meet one or more project objectives. At a minimum, the demonstration shall comprise 4000 hours of operation at a host site that is compatible with an operating rate of at least 4000 hours per annum.

The applicant will complete a coordinated plan for the demonstration that incorporates the perspectives of all relevant parties, including the host site. The plan will also assign responsibilities on all matters necessary to execute the demonstration plan, such as business arrangements, balance of plant equipment, site construction, site integration, periodic inspections of hardware, visitations of third parties, data acquisition at the host site to verify expected benefits, and obtainment of environmental, construction, operating, and other permits.

In support of the Office of Industrial Technologies and the nation’s industries, it is preferred that the demonstration be conducted at an Industry of the Future Company. If it is not feasible to conduct the demonstration at an Industry of the Future Company or if there are valid reasons to do the demonstration elsewhere, a host site other than an Industry of the Future Company may be proposed. Host sites comprising buildings or natural gas and electric utility sites may be relevant to programs of the Office of Energy Efficiency and Renewable Energy, Office of Building and Community Systems, and the Office of Power Technologies respectively. In such cases, the result of the demonstration will be coordinated with these offices as feasible and appropriate by the DOE program manager.

The demonstration shall be representative of significant market segments of the distributed power generation industry. As a result, the successful demonstration at the host site will be expected to exemplify the resolution of the typical barriers (such as technical, environmental, industry acceptance, and control issues related to an interconnection to the existing local utility transmission and distribution grid) that impede the widespread adoption of distributed generation. In this regard, all hours of operation may be accumulated under the demonstration while the host site is interconnected to the existing local utility grid that exists for the routine transmission and distribution of electric power. Accordingly, the balance of plant equipment may be sufficient to generate and condition such electric power, and all hardware may be provided for interconnection to the local utility grid.

Subtask A—Subtask A is required for any applicant selected for award and will be performed in conjunction with the lowest numbered task which the participant will do work. The completed report must be received within 90 days of award of the cooperative agreement and will be submitted in accordance with topical report requirements.

With emphasis on the Industries of the Future Companies, but not excluding other applicants, the report will further define completed distributed generation and combined heat and power systems likely to be available at the successful completion of this project. The participant will identify and quantify the potential technical markets for such systems. In areas such as energy efficiency, performance, cost, and emissions, the participant will provide detailed rationale that supports these projections. All barriers such as the lack of uniform grid connection standards that will impact on the technical market will be identified. However, any barriers that are out of the control of the participant shall be deemed not to impact on the projected technical market.

Subtask B—Subtask B is required for any applicant selected for award that proposed on Tasks 3, 4, and/or 5 and will be performed in conjunction with the lowest numbered task proposed. The completed report must be received within 180 days of initiation of the lowest numbered Task (3-5) under which the participant will do work. This report will be submitted in accordance with topical report requirements.

The main impetus for this work is the commercial implementation of efficiency, clean, and cost-effective microturbines in distributed generation and combined heat and power system(s). It is essential that a commercialization plan support the proposed technological development. Participants doing work under Tasks 3, 4, or 5 shall complete commercialization plans and strategies for all relevant functions in the commercialization process such as cost-effective manufacturing, marketing, production volumes, and support for the participant's microturbine system. The commercialization plan will emphasize market applications in the Industries of the Future Companies.

As applicants may apply under one or more of the five tasks within the solicitation's Scope of Work, there is a wide range in the number of potential awards and award values. DOE expects to award six (6) to ten (10) cooperative agreements under this solicitation. It is estimated that individual awards will range in value between approximately $500,000.00 and $10,000,000.00 of DOE funding and will require recipient cost sharing. A minimum non-federal cost sharing commitment of 30% of the total cost for Tasks 1 and 2, 45% of the total cost for Tasks 3 and 4, and 60% of the total cost for Task 5 is required.

Estimated DOE funding is $40 million over a five-year period. DOE reserves the right to fund any, all, or none of the applications submitted in response to this solicitation. All awards are subject to the availability of funds.

Any non-profit or for-profit organization or other institution of higher education, or non-federal agency or entity is eligible to apply, unless otherwise restricted by the Simpson-Craig Amendment. In addition, applicants must satisfy the requirements of the Energy Policy Act in order to be eligible for award.

Issued in Argonne, Illinois on February 1, 2000.
James R. Bieschke,
Acquisition and Assistance Group, Acting Group Manager.

[FR Doc. 00-2796 Filed 2-7-00; 8:45 am]

BILLING CODE 6450-01-P